DEPARTMENT OF THE INTERIOR

Bureau of Land Management

[OR-026-1610-DE; GP01-0131]

Steens Mountain Advisory Council; Notice of Intent to Establish and Call for Nominations

AGENCY: Bureau of Land Management (BLM), Burns District, Oregon.

ACTION: Notice of intent to establish and call for nominations for the Steens Mountain Advisory Council under the Steens Mountain Cooperative Management and Protection Act of 2000 (PL 106-399).

SUMMARY: BLM is publishing this notice under section 9(a)(2) of the Federal Advisory Committee Act. Pursuant to the Steens Mountain Cooperative Management and Protection Act of 2000, (Pub. L. 106-399), BLM gives notice that the Secretary of the Interior intends to establish the Steens Mountain Advisory Council (Council). The notice requests the public to submit nominations for membership on the Council. The Council is necessary to advise the Secretary and BLM on resource management issues associated with the Steens Mountain Cooperative Management and Protection Area (CMPA).

DATES: Submit a completed nomination form and nomination letters to the address listed below no later than May 4, 2001.

ADDRESSES: Send nominations to: Burns District Manager, Burns District Office, Bureau of Land Management, HC 74-12533, Hwy. 20 West, Hines, Oregon, 97738.

FOR FURTHER INFORMATION CONTACT: Rhonda Karges, Management Support Specialist, (541) 573-4433, or Rhonda Karges@or.blm.gov or from the following web sites http://www.or.blm.gov/Burns or http://www.or.blm.gov/steens.

SUPPLEMENTARY INFORMATION: Any individual or organization may nominate one or more persons to serve on the Steens Mountain Advisory Council. Individuals may nominate themselves for Council membership. You may obtain nomination forms from the Burns District Office, Bureau of Land Management (see ADDRESSES, above). To make a nomination, you must submit a completed nomination form, letters of reference from the represented interests or organizations, as well as any other information that speaks to the nominee's qualifications, to the Burns District Office. You may make nominations for the following categories of interest:

• A private landowner in the CMPA (appointed from nominees submitted by the county court of Harney County);

• Two persons who are grazing permittees on Federal lands in the CMPA (appointed from nominees submitted by the county court of Harney County);

• A person interested in fish and recreational fishing in the CMPA (appointed from nominees submitted by the Governor of Oregon);

• A member of the Burns Paiute Tribe (appointed from nominees submitted by the Burns Paiute Tribe);

• Two persons who are recognized environmental representatives, one of whom represents the State as a whole, and one of whom is from the local area (appointed from nominees submitted by the Governor of Oregon);

• A person who participates in what is commonly called dispersed recreation, such as hiking, camping, nature viewing, nature photography, bird watching, horse back riding, or trail walking (appointed from nominees submitted by the Bureau of Land Management);

• A person who is a recreation permit holder or is a representative of a commercial recreation operation in the CMPA (appointed from nominees submitted by the county court of Harney County and the Bureau of Land Management);

• A person who participates in what is commonly called mechanized or consumptive recreation, such as hunting, fishing, off-road driving, hang gliding, or parasailing (appointed from nominees submitted by the Bureau of Land Management);

• A person with expertise and interest in wild horse management on Steens Mountain (appointed from nominees submitted by the Bureau of Land Management);

• A person who has no financial interest in the CMPA to represent statewide interests (appointed from nominees submitted by the Bureau of Land Management).

The specific category the nominee would like to represent should be identified in the letter of nomination and in the nomination form. The Burns District will collect the nomination forms and letters of reference and distribute them to the officials responsible for submitting nominations (county court of Harney County, the Governor of Oregon, the Bureau of Land Management, and the Burns Paiute Tribe). The Bureau of Land Management will then forward recommended nominations to the Secretary of the Interior, who has responsibility for making the appointments.

The purpose of the Steens Mountain Advisory Council is to advise the Bureau of Land Management on the management of the CMPA as described in Title 1 of the Steens Mountain Cooperative Management and Protection Act of 2000 (PL 106-399). Each member will be a person who, as a result of training and experience, has knowledge or special expertise which qualifies him or her to provide advice from among the categories of interest listed above.

Members will serve without monetary compensation, but will be reimbursed for travel and per diem expenses at current rates for Government employees.

Dated: March 28, 2001.
Nina Rose Hatfield,
Acting Director, Bureau of Land Management.

[FR Doc. 01-7968 Filed 4-3-01; 8:45 am]

BILLING CODE 4310-33-P